DEPARTMENT OF TRANSPORTATION

Pipeline and Hazardous Materials Safety Administration

Office of Hazardous Materials Safety; Notice of Applications for Special Permit

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 1, 2010.

ADDRESS COMMENTS TO: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION: Copies of the applications are available for inspection in the Records Center, East Building, PHH-30, 1200 New Jersey Avenue, SE., Washington, DC or at http://www.regulations.gov.

This notice of receipt of applications for special permit is published in accordance with Part 107 of the Federal hazardous materials transportation law (49 U.S.C. 5117(b); 49 CFR 1.53(b)).

Issued in Washington, DC, on January 21, 2010.
Delmer F. Billings,
Director, Office of Hazardous Materials, Special Permits and Approvals.

New Special Permits
Application No. | Docket number applicant | Regulation(s) affected | Nature of special permits thereof
14950-N | Certified Cylinder, Division of American Welding & Tank, LLC Crossville, TN | 49 CFR 180.211 | To authorize the rebuilding or modification and sale of certain DOT Specification 4B, 4BA, and 4BW cylinders for use in the transportation in commerce of certain hazardous materials. (mode I).
14952-N | Mebrom NV Ertvelde-Rieme | 49 CFR 173.193 | To authorize the transportation in commerce of Methyl bromide and Chloropicrin and methyl bromide mixtures in non-DOT specification cylinders by motor vehicle and cargo vessel for export only. (modes 1, 3).
14953-N | Applied Laboratories, Inc. Columbus, IN | 49 CFR 173.306(a)(3)(v) | To authorize the transportation in commerce of DOT Specification 2Q non-refillable aluminum inside containers which have been tested by an alternative method in lieu of the hot water bath test. (modes 1, 2, 3, 4, 5).
14954-N | Zotos International, Inc. Geneva, NY | 49 CFR 173.306(a)(3)(v) | To authorize the transportation in commerce of DOT Specification 2P non-refillable aluminum inside containers which have been subject to an automated pressure test on the line in lieu of the hot water bath test. (mode 1).
14956-N | American Type Culture Collection (ATCC) | 49 CFR 173.196, 178.609 | To authorize the one-way transportation in commerce of certain Category A infectious substances by motor vehicle in alternative packaging. (mode 1).
14957-N | Sika Corporation Lyndhurst, NJ | 49 CFR 173.4 | To authorize the transportation in commerce of approximately 80,000 packages under the terms of 49 CFR 173.4 with alternative marking to deplete carton stock. (modes 1, 2).
14959-N | Skagit County Public Works Department Mount Vernon, WA | 49 CFR 176.91 | To authorize the transportation in commerce Class 3 Gasoline in approved containers of 6 gallon or less capacity on passenger ferry vessels transporting motor vehicles. (mode 6).
14960-N | Cheltec, Inc. Sarasota, FL | 49 CFR 173.154(d) | To authorize the transportation of certain Class 8 materials that are corrosive only to steel in non-bulk packagings made of non-reactive materials without being subject to the Hazardous Materials Regulations. (modes 1, 2).

[FR Doc. 2010-1455 Filed 1-27-10; 8:45 am]

BILLING CODE 4909-60-M